DEPARTMENT OF THE INTERIOR

Office of the Special Trustee for American Indians

New Information Collection

Correction

In notice document 03-24795 beginning on page 56318 in the issue of Tuesday, September 30, 2003 make the following correction:

On page 56319, in the table, under the heading “CFR Section” in the first line, “15.705” should read “115.705”

[FR Doc. C3-24795 Filed 10-16-03; 8:45 am]

BILLING CODE 1505-01-D